DEPARTMENT OF COMMERCE

Performance Review Board Membership

AGENCY: Economics and Statistics Administration, Department of Commerce.

ACTION: Notice.

SUMMARY: Below is a listing of individuals who are eligible to serve on the Performance Review Board (PRB) in accordance with the Economics and Statistics Administration's Senior Executive Service and Senior Professional Performance Management Systems:

Kenneth A. Arnold

William G. Bostic, Jr.

Stephen B. Burke

Joanne Buenzli Crane

Susan R. Helper

Ron S. Jarmin

Enrique Lamas

J. Steven Landefeld

Jennifer Madans

Brian E. McGrath

Brian C. Moyer

Nancy A. Potok

Frederick Stephens

Sonja Steptoe

Frank A. Vitrano

Katherine K. Wallman

Adam Wilczewski

The term of each PRB member will expire on December 31, 2015.

FOR FURTHER INFORMATION CONTACT: Latasha Ellis, 301-763-3727.

Dated: November 5, 2013.
Kenneth A. Arnold,
Associate Under Secretary for Management, Chair, Performance Review Board.

[FR Doc. 2013-26949 Filed 11-8-13; 8:45 am]

BILLING CODE 3510-BS-P